DEPARTMENT OF HEALTH AND HUMAN SERVICES

[Document Identifier 0945-0002]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 26, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0945-0002-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Complaint Forms for Discrimination; Health Information Privacy Complaints and Civil Rights Discrimination.

Type of Collection: Extension.

OMB No.: 0945-0002.

Abstract: The Office for Civil Rights (OCR) is requesting an extension of the previously approved collection 0945-0002 that is expiring in November 2022, titled: Complaint Forms for Discrimination; Health Information Privacy Complaints and Civil Rights Discrimination. This request revises the OCR Civil Rights Discrimination Complaint Form and the Privacy Discrimination Complaint Form as currently approved and will remain in compliance with the Paperwork Reduction Act. We are requesting a 3year extension.

Type of respondent: Individuals or households, Not-for-profit institutions and Individuals or households annually.

Estimated Annualized Burden Table
Written forms/electronic forms | Type of respondent | Number of respondents | Number of responses per respondent | Average burden hours per response | Total burden hours
Civil Rights/Conscience Discrimination Complaint | Individuals or households, Not-for-profit institutions | 15,446 | 1 | 45/60 | 11,585
Health Information Privacy Complaint | Individuals or households, Not-for-profit institutions | 30,392 | 1 | 45/60 | 22,794
Total |  | 45,838 |  | 45/60 | 34,379

Sherrette A. Funn,
Paperwork Reduction Act Reports Clearance Officer, Office of the Secretary.

[FR Doc. 2022-20713 Filed 9-23-22; 8:45 am]

BILLING CODE 4153-01-P